DEPARTMENT OF ENERGY

Federal Energy Regulatory Commission

[Project No. 2232-522]

Duke Energy Carolinas, LLC; North Carolina and South Carolina, Catawba-Wateree Hydroelectric Project; Notice of Proposed Restricted Service List for a Programmatic Agreement for Managing Properties Included in or Eligible for Inclusion in the National Register of Historic Places

May 11, 2009.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹18 CFR section 385.2010.

The Commission staff is consulting with the North Carolina State Historic Preservation Officer (hereinafter, North Carolina SHPO), South Carolina State Historic Preservation Officer (hereinafter, South Carolina SHPO), and the Advisory Council on Historic Preservation (hereinafter, Council) pursuant to the Council's regulations, 36 CFR Part 800, implementing section 106 of the National Historic Preservation Act, as amended, (16 U.S.C. section 470f), to prepare and execute a programmatic agreement for managing properties included in, or eligible for inclusion in, the National Register of Historic Places at the Catawba-Wateree Hydroelectric Project No. 2232-522 (North Carolina SHPO Reference Number ER03-0359).

The programmatic agreement, when executed by the Commission and the North Carolina and South Carolina SHPOs would satisfy the Commission's section 106 responsibilities for all individual undertakings carried out in accordance with the license until the license expires or is terminated (36 CFR 800.13[e]). The Commission's responsibilities pursuant to section 106 for the Catawba-Wateree Project would be fulfilled through the programmatic agreement, which the Commission proposes to draft in consultation with certain parties listed below. The executed programmatic agreement would be incorporated into any Order issuing a license.

Duke Energy Carolinas, LLC, as licensee for Catawba-Wateree Hydroelectric Project No. 2232, the Catawba Indian Nation, and the Eastern Band of Cherokee Indians have expressed an interest in this preceding and are invited to participate in consultations to develop the programmatic agreement.

For purposes of commenting on the programmatic agreement, we propose to restrict the service list for the aforementioned project as follows:

Reid Nelson or Representative, Advisory Council on Historic Preservation, The Old Post Office Building, Suite 803, 1100 Pennsylvania Avenue, NW., Washington, DC 20004 | Tyler Howe or Representative, Eastern Band of Cherokee Indians, Qualla Boundary, P.O. Box 455, Cherokee, NC 28719.
Rebekah Dobrasko or Representative, Review and Compliance Coordinator, Archives & History Center, 8301 Parklane Road, Columbia, SC 29223 | Renee Gledhill-Earley or Representative, North Carolina Department of Cultural Resources,4617 Mail Service Center, Raleigh, NC 27699-4617.
Jennifer Huff or Representative, Duke Power, P.O. Box 1006, Mail Code EC12Y, Charlotte, NC 28201-1006 | Dr. Wenonah G. Haire or Representative, IN THPO, 1536 Tom Stevens Rd, Rock Hill, SC 29730.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

An original and 8 copies of any such motion must be filed with Kimberly D. Bose, the Secretary of the Commission (888 First Street, NE., Washington, DC 20426) and must be served on each person whose name appears on the official service list. Please put the project name Catawba-Wateree Hydroelectric Project and number P-2232-522 on the front cover of any motion. Motions may be filed electronically via the Internet in lieu of paper. The Commission strongly encourages electronic filings. See 18 CFR 385.2001(a)(1)(iii) and the instructions on the Commission's Web site (http://www.ferc.gov) under the “e-Filing” link.

If no such motions are filed, the restricted service list will be effective at the end of the 15 day period. Otherwise, a further notice will be issued ruling on any motion or motions filed within the 15 day period.

Kimberly D. Bose,
Secretary.

[FR Doc. E9-11465 Filed 5-15-09; 8:45 am]

BILLING CODE 6717-01-P